DEPARTMENT OF JUSTICE

Antitrust Division

Notice Pursuant to the National Cooperative Research and Production Act of 1993—Training & Readiness Accelerator II

Notice is hereby given that, on February 17, 2023, pursuant to Section 6(a) of the National Cooperative Research and Production Act of 1993, 15 U.S.C. 4301 et seq. (“the Act”), Training & Readiness Accelerator II (“TReX II”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identity of the party to the venture are: 5-D Systems, Inc., Round Rock, TX; A10 Systems LLC dba AiRANACULUS, Chelmsford, MA; Aalyria Technologies, Inc, Livermore, CA; Acquisition Systems Associates, Inc., Great Falls, VA; Acutronic USA, Inc, Pittsburgh, PA; Aero Simulation, Inc., Tampa, FL; Alion Science and Technology, McLean, VA; Alluvionic, Inc., Melbourne, FL; Amentum Services, Inc., Germantown, MD; American Rheinmetall Systems LLC, Biddeford, ME; American Systems, Chantilly, VA; Ampersand Solutions Group, Inc., Huntsville, AL; Applied Research Associates, Orlando, FL; Appliedinfo Partners, Inc., Somerset, NJ; Aptima, Inc., Woburn, MA; ARCTOS Technology Solutions LLC, Dayton, OH; A-Tech LLC dba BlueHalo Labs, Albuquerque, NM; Athena Technologies LLC, Orlando, FL; Atlantic Drone Pros LLC, Richmond, VA; Baker Street Scientific, Rome, GA; Basic Engineering Concepts and Technologies, Inc., Alexandria, VA; Battelle Memorial Institute, Columbus, OH; BCG Federal Corp, Bethesda, MD; Beast Code LLC, Ft. Walton Beach, FL; Bell Textron, Inc., Fort Worth, TX; Bigelow Family Holdings LLC DBA Mettle Ops, Sterling Heights, MI; Blue Force Technologies, Inc., Morrisville, NC; BlueHalo LLC, Huntsville, AL; Boarhog LLC, San Diego, CA; Booz Allen Hamilton, McLean, VA; Boston Engineering Corporation, Waltham, MA; Breault Research Organization, Tucson, AZ; CAE USA, Inc., Tampa, FL; CFD Research Corporation, Huntsville, AL; Charles River Analytics, Cambridge, MA; Chesapeake Technology International Corp, California, MD; CHI Systems, Inc., Plymouth Meeting, PA; Chip Design Systems, Hockessin, DE; Cignal LLC, Reedsville, PA; Clarity Cyber, Linthicum, MD; CMA Technologies, Inc., Orlando, FL; CodeMettle LLC, Atlanta, GA; Cole Engineering Services, Inc., Orlando, FL; Colorado Engineering, Inc., Colorado Springs, CO; Command Post Technologies, Inc., Suffolk, VA; Concurrent Real-Time, Inc., Pompano Beach, FL; Concurrent Technologies Corporation, Johnstown, PA; Conflict Kinetics Corporation, Sterling, VA; CORASCloud, Inc., McLean, VA; Corvid Technologies LLC, Moorestown, NC; Cubic Defense Applications, Inc. (CDAI), San Diego, CA; CUBRC, Inc., Buffalo, NY; Cyber DI LLC, Great Falls, VA; CyOne, Inc., Aberdeen, MD; Daniel H. Wagner Associates, Inc., Exton, PA; deciBel Research, Inc., Huntsville, AL; Decryptor, Inc., Richardson, TX; Defense Engineering Services LLC (DES), North Charleston, SC; Deloitte Consulting LLP, Arlington, VA; Dignitas Technologies LLC, Orlando, FL; DiSTI LLC, Orlando, FL; DKW Consulting LLC, Tallahassee, FL; DRS Laurel Technologies Partnership, Johnstown, PA; dSPACE, Inc., Wixom, MI; Dynamic Dimension Technologies LLC, Westminster, MD; Dynetics, Inc., Huntsville, AL; Elcomm LLC, Sugar Hill, GA; Engineering & Computer Simulations, Inc., Orlando, FL; Epirus, Inc., Hawthorne, CA; EWA Government Systems, Inc., Herndon, VA; ExoAnalytic Solutions, Inc., Foothill Ranch, CA; EZ-A Consulting, LLC, Bel Air, MD; FAAC Incorporated, Ann Arbor, MI; FactualVR, Inc., Jersey City, NJ; Fairbanks Morse Defense, Beloit, WI; Fenix Group, Inc., Chantilly, VA; FN America LLC, Columbia, SC; Fox Valley Metal-Tech, Inc., Green Bay, WI; GaN Corporation, Huntsville, AL; GBL Systems Corporation, Camarillo, CA; GenXComm, Austin, TX; GIRD Systems, Inc., Cincinnati, OH; GS Engineering, Inc., Houghton, MI; GSD LLC, Williamsburg, VA; Herley Industries, Inc. dba Ultra Intelligence & Communications, Lancaster, PA; Hill Technical Solutions LLC, Huntsville, AL; Huckworthy LLC, Cape Charles, VA; IERUS Technologies, Inc., Huntsville, AL; Infinity Systems Engineering LLC, Colorado Springs, CO; Inhance Digital Corporation, Los Angeles, CA; Integrated Solutions for Systems, Inc., Huntsville, AL; Integration Innovation Inc (i3), Huntsville, AL; Inter-Coastal Electronics (ICE) LLC, Mesa, AZ; Intuitive Research and Technology Corp., Huntsville, AL; JF Taylor, Inc., Great Mills, MD; Joint Research and Development, Inc., Stafford, VA; Keysight Technologies, Inc., Colorado Springs, CO; Kinetics, Inc., Cook, WA; KnowledgeBridge International, Inc., Chantilly, VA; Kord Technologies LLC, Huntsville, AL; Kratos SRE, Inc., Birmingham, AL; Kratos Technology & Training Solutions, Inc., San Diego, CA; Kratos Unmanned Aerial Systems, Inc., Sacramento, CA; Kutta Technologies LLC, Phoenix, AZ; L2 Defense, Inc., Baltimore, MD; L3 Technologies, Inc., Communication Systems-East, Camden, NJ; Leidos, Inc., Reston, VA; Leonardo Electronics US, Inc, Arlington, VA; Liberty Business Associates LLC, Ladson, SC; Life Cycle Engineering, Inc., North Charleston, SC; Link to Learn LLC dba SimWerx, Denver, CO; LinQuest Corporation, Los Angeles, CA; Lockheed Martin Corporation, Orlando, FL; Logistic Services International, Inc., Jacksonville, FL; Luna Labs USA LLC, Charlottesville, VA; MAK Technologies, Cambridge, MA; Maplewell, Inc., Broomfield, CO; Maxar Intelligence, Inc., Westminster, CO; MaXentric Technologies LLC, Fort Lee, NJ; MEPSS LLC, Indian Harbor Beach, FL; Mercury Systems, Inc., Andover, MA; Mercury Systems, Inc., Cypress, CA; Metateq, Inc., Eugene, OR; Micro Systems, Inc., Fort Walton Beach, FL; Miltope Corporation, Hope Hull, AL; Mistral, Inc., Bethesda, MD; MORSECORP, Inc., Cambridge, MA; MRIGlobal, Kansas City, MO; MuniRem Environmental LLC, Duluth, GA; Naval Systems, Inc., Lexington Park, MD; Netrist Solutions LLC, Charleston, SC; NEXCEPTA, Inc., Gaithersburg, MD; Next Earth LLC, Ashburn, VA; Next Tier Concepts, Inc., Vienna, VA; NI—National Instruments Corporation, Austin, TX; NIRSense LLC dba Bionica Labs LLC, Richmond, VA; Noble Supply & Logistics LLC, Boston, MA; Nostromo LLC, Kennebunk, ME; NTELX, INC., Asheville, NC; Onyx Aerospace LLC, Huntsville, AL; Optical Sciences Corporation, Huntsville, AL; Optimization Technologies, Inc. (dba OptTek Systems, Inc.), Boulder, CO; Outpost Technologies, Inc., Huntsville, AL; Peerless Technologies Corporation, Fairborn, OH; Peraton Labs, Inc., Basking Ridge, NJ; Persistent Systems LLC, New York, NY; PHELPS2020, INC., Knoxville, TN; Phoenix Logistics LLC dba Phoenix Defense LLC, Gilbert, AZ; Polaris Alpha Advanced Systems, Inc., Fredericksburg, VA; Polaris Sensor Technologies, Inc., Huntsville, AL; Pratt & Miller Engineering & Fabrication LLC, New Hudson, MI; QinetiQ, Inc., Lorton, VA; Quantum Research International, Inc., Huntsville, AL; QuesTek Innovations, Evanston, IL; Radiance Technologies, Inc., Huntsville, AL; RadioSoft, Inc. dba LS telcom US, a RadioSoft operation, Clarkesville, GA; Rafael Systems Global Sustainment, Bethesda, MD; Raytheon Technologies/Raytheon Company, Dulles, VA; RDA Technical Services, Fort Meyers, FL; R-DEX Systems, Inc., Woodstock, GA; Rebellion Defense, Inc., Washington, DC; Red River Technology LLC, Claremont, NH; Reed Integration, Inc., Suffolk, VA; Rincon Research Corporation, Tucson, AZ; Rocket Communications, San Francisco, CA; Rocket Technology, Richmond, VA; Rocky Mountain Scientific Laboratory, Littleton, CO; Sabre Systems, Inc., Warminster, PA; Santa Barbara Infrared, Inc., Santa Barbara, CA; SAVIT Corporation, Rockaway, NJ; Science Applications International Corporation, Reston, VA; Science, Engineering, Management Solutions, LLC (Sem-Sol), Albuquerque, NM; Scientific Research Corporation (SRC), Atlanta, GA; Sellers & Associates LLC, Chesapeake, VA; SGSD Partners, LLC dba Elevate Government Solutions, Washington, DC; Sierra Technical Services, Inc., Tehachapi, CA; Simulation Technologies, Inc., Huntsville, AL; SimX, Inc., San Jose, CA; SIPPA Solutions LLC, Bayside, NY; SitScape Inc., Vienna, VA; Southwest Research Institute, San Antonio, TX; SparkCognition Government Systems, Austin, TX; Spectral Labs Incorporated, San Diego, CA; SRI International, Menlo Park, CA; Steiner eOptics, Inc., Miamisburg, OH; STELEX LLC, Pikesville, MD; Stottler Henke Associates, Inc., San Mateo, CA; SURVICE Engineering Company, Belcamp, MD; Syncopated Engineering, Inc., Ellicott City, MD; Synertex LLC, Purcellville, VA; Synthetik Applied Technologies, Pierre, SD; Technica Corporation, Sterling, VA; Technology Service Corporation, Arlington, VA; Technology Solution Providers, Inc., Reston, VA; Technology Unlimited Group, San Diego, CA; Textron Systems Corporation dba Textron Systems, Hunt Valley, MD; The EXPANSIA Group LLC, Nashua, NH; The Henry M. Jackson Foundation for the Advancement of Military Medicine, Bethesda, MD; The Informatics Applications Group, Inc., Reston, VA; Tiami LLC, Elk Grove, CA; TLC Solutions, Inc., Saint Augustine, FL; Torch Technologies, Inc., Huntsville, AL; Toyon Research Corporation, Goleta, CA; TrustedQA, Inc., Reston, VA; Universal Technical Resource Services, Inc., Cherry Hill, NJ; University of Arizona Applied Research Corporation, Tucson, AZ; Uptake Technologies, Inc., Chicago, IL; VAE, Inc., Springfield, VA; Vectrus Systems Corporation, Colorado Springs, CO; Vertex Aerospace LLC, Madison, MS; VIStology, Inc., Framingham, MA; W R Systems, Ltd., Fairfax, VA; XL Scientific LLC dba Verus Research, Albuquerque, NM; XR 2 LEAD LLC, Dumfries, VA; and Yulista Integrated Solutions LLC, Huntsville, AL.

The nature and objectives of the venture are to provide leading-edge modeling, simulation, and training solutions to increase warfighter readiness and enhance national security through the use of Other Transaction Authority.

The general area of TReX II's planned activities are to respond to requirements from the Army's Program Executive Officer for Simulation, Training, and Instrumentation (PEO STRI) to increase warfighter readiness via modeling, simulation, education, training, experimental validation, and military readiness focused projects. TReX II's planned activity is to conduct research, development, and prototyping of projects and projects in the following technology areas: Modeling; Simulation; Education and Training; Experimental Validation; Readiness; and Information Operations. The consortium was formed effective November 2, 2022.

Suzanne Morris,
Deputy Director, Civil Enforcement Operations, Antitrust Division.

[FR Doc. 2023-12539 Filed 6-12-23; 8:45 am]

BILLING CODE P